ENVIRONMENTAL PROTECTION AGENCY

[FRL-7400-6]

Clean Air Act Operating Permit Program; Petition for Objection to State Operating Permit for the Borden Chemical, Inc. Formaldehyde Plant Geismar, Ascension Parish, LA

AGENCY: Environmental Protection Agency (EPA).

ACTION: Notice of final order on petition to object to state operating permit.

SUMMARY: This notice announces that the EPA Administrator has denied the petition to object to a state operating permit issued by the Louisiana Department of Environmental Quality (LDEQ) for Borden Chemical, Inc.'s formaldehyde plant in Geismar, Louisiana. Pursuant to section 505(b)(2) of the Clean Air Act (Act), the petitioner may seek judicial review of this petition response in the United States Court of Appeals for the Fifth Circuit. Any petition must be filed within 60 days of the date this notice appears in the Federal Register, pursuant to section 307(d) of the Act.

ADDRESSES: You may review copies of the final order, the petition, and other supporting information at the Environmental Protection Agency, Region 6, 1445 Ross Avenue, Dallas, Texas 75202-2733. If you wish to examine these documents, you should make an appointment at least 24 hours before visiting day. The final order is also available electronically at the following address: http://www.epa.gov/region07/programs/artd/air/title5/petitiondb/petitiondb2001.htm

FOR FURTHER INFORMATION CONTACT: Bonnie Braganza, Air Permitting Section, Multimedia Planning and Permitting Division, U.S. Environmental Protection Agency, Region 6, 1445 Ross Avenue, Dallas, Texas 75202-2733, telephone (214) 665-7340 or e-mail at braganza.bonnie@epa.gov.

SUPPLEMENTARY INFORMATION: The Clean Air Act (Act) affords EPA a 45-day period to review, and object to as appropriate, operating permits proposed by state permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

The Louisiana Environmental Action Network submitted a petition to the Administrator on January 2, 2001, requesting that EPA object to the modified title V operating permit issued for Borden Chemical, Inc.'s formaldehyde plant in Geismar, Louisiana. The petition objects to issuance of the proposed permit on the following grounds: (1) The emission reductions relied upon to avoid designation as a major modification are not real, actual, or allowable under Federal law and regulations; (2) nonattainment new source review applies because the emission reductions were not surplus under Louisiana regulations; (3) Borden should not be rewarded for violating the Clean Air Act, and the modified permit is contrary to EPA policy and the intent of the Act; and (4) a new facility in the Baton Rouge nonattainment area will not provide sufficient reductions to achieve the ozone standard.

On September 30, 2002, the Administrator issued an order denying the petition. The order explains the reasons for the Administrator's decision.

Dated: October 19, 2002.
Gregg A. Cooke,
Regional Administrator.

[FR Doc. 02-27339 Filed 10-25-02; 8:45 am]

BILLING CODE 6560-50-P